DEPARTMENT OF COMMERCE

Bureau of Export Administration

National Defense Stockpile Market Impact Committee Request for Public Comments

AGENCY: Office of Strategic Industries and Economic Security, Bureau of Export Administration, U.S. Department of Commerce.

ACTION: Notice of request for public comment on the potential market impact of proposed disposals of excess commodities currently held in the National Defense Stockpile under the Fiscal Year 2002 Annual Materials Plan (AMP) and revisions to commodity disposals approved under the FY 2001 AMP.

SUMMARY: This notice is to advise the public that the National Defense Stockpile Market Impact Committee (co-chaired by the Departments of Commerce and State) is seeking public comment on the potential market impact of proposed disposals of excess materials from the National Defense Stockpile as set forth in Attachment 1 to this notice.

DATES: Comments must be received by November 1, 2000.

ADDRESSES: Written comments should be sent to Richard V. Meyers, Co-Chair, Stockpile Market Impact Committee, Office of Strategic Industries and Economic Security, Room 3876, U.S. Department of Commerce, 14th Street and Constitution Avenue, NW., Washington, DC 20230; FAX (202) 482-5650.

FOR FURTHER INFORMATION CONTACT: Richard V. Meyers, Office of Strategic Industries and Economic Security, U.S. Department of Commerce, (202) 482-3634; or Terri L. Robl, Office of International Energy and Commodity Policy, U.S. Department of State, (202) 647-3423; co-chairs of the National Defense Stockpile Market Impact Committee.

SUPPLEMENTARY INFORMATION: Under the authority of the Strategic and Critical Materials Stock Piling Act of 1979, as amended, (50 U.S.C. 98 et seq.), the Department of Defense (DOD), as National Defense Stockpile Manager, maintains a stockpile of strategic and critical materials to supply the military, industrial, and essential civilian needs of the United States for national defense. Section 3314 of the Fiscal Year (FY) 1993 National Defense Authorization Act (NDAA) (50 U.S.C. 98h-1) formally established a Market Impact Committee (the Committee) to “advise the National Defense Stockpile Manager on the projected domestic and foreign economic effects of all acquisitions and disposals of materials from the stockpile * * *.” The Committee must also balance market impact concerns with the statutory requirement to protect the Government against avoidable loss.

The Committee is comprised of representatives from the Departments of Commerce, State, Agriculture, Defense, Energy, Interior, Treasury, and the Federal Emergency Management Agency, and is co-chaired by the Departments of Commerce and State. The FY 1993 NDAA directs the Committee to “consult from time to time with representatives of producers, processors and consumers of the types of materials stored in the stockpile.”

Attachment 1 lists the current FY 2001 AMP quantities (previously approved by the Committee), proposed revisions to the FY 2001 AMP quantities for 5 materials, and the proposed FY 2002 AMP. The Committee is seeking public comment on the potential market impact of the sale of these materials as proposed in the revised FY 2001 AMP and FY 2002 AMP.

The quantities listed in Attachment 1 are not sales target disposal quantities. They are only a statement of the proposed maximum disposal quantity of each listed material that may be sold in a particular fiscal year. The quantity of each material that will actually be offered for sale will depend on the market for the material at the time as well as on the quantity of each material approved for disposal by Congress.

The Committee requests that interested parties provide written comments, supporting data and documentation, and any other relevant information on the potential market impact of the sale of these commodities. Although comments in response to this Notice must be received by November 1, 2000, to ensure full consideration by the Committee, interested parties are encouraged to submit additional comments and supporting information at any time thereafter to keep the Committee informed as to the market impact of the sale of these commodities. Public comment is an important element of the Committee's market impact review process.

Public comments received will be made available at the Department of Commerce for public inspection and copying. Material that is national security classified or business confidential will be exempted from public disclosure. Anyone submitting business confidential information should clearly identify the business confidential portion of the submission and also provide a non-confidential submission that can be placed in the public file. Communications from agencies of the United States Government will not be made available for public inspection.

The public record concerning this notice will be maintained in the Bureau of Export Administration's Records Inspection Facility, Room 4525, U.S. Department of Commerce, 14th Street and Constitution Avenue, NW., Washington, DC 20230, telephone (202) 482-5653. The records in this facility may be inspected and copied in accordance with the regulations published in Part 4 of Title 15 of the Code of Federal Regulations (15 CFR 4.1 et seq.).

Information about the inspection and copying of records at the facility may be obtained from Ms. Margaret Cornejo, the Bureau of Export Administration's Freedom of Information Officer, at the above address and telephone number.

Dated: September 27, 2000.
Daniel Hill,
Director, Office of Strategic Industries and Economic Security.

Attachment 1.—Proposed Annual Material Plans for FY 2001 Revised and FY 2002
Material | Units | Currently FY 2001 quantity | Revised FY 2001 quantity | Proposed FY 2002 quantity
Aluminum Oxide, Abrasive | ST | 6,000 |  | 6,000
Antimony | ST | 5,000 |  | 5,000
Bauxite, Metallurgical (Jamaican) | LDT | 2,000,000 |  | 2,000,000
Bauxite, Metallurgical (Surinam) | LDT | ¹ 1,000,000 |  | ¹ 1,000,000
Beryl Ore | ST | 4,000 |  | 4,000
Beryllium Metal | ST | 40 |  | 40
Beryllium Copper Master Alloy | ST | 2,200 |  | 2,200
Cadmium | LB | 1,200,000 |  | 1,200,000
Celestite | SDT | 3,600 |  | 3,600
Chromite, Chemical | SDT | ¹ 100,000 |  | ¹ 100,000
Chromite, Metallurgical | SDT | 250,000 |  | ¹ 100,000
Chromite, Refractory | SDT | 100,000 |  | 100,000
Chromium, Ferro | ST | 150,000 |  | 150,000
Chromium, Metal | ST | 500 |  | 500
Cobalt | LB Co | 6,000,000 |  | 6,000,000
Columbium, Carbide Powder | LB Cb | 21,5001 |  | 21,5001
Columbium Concentrates (Minerals) | LB Cb | 375,000 | 450,000 | 450,000
Columbium Metal Ingots | LB Cb | 20,000 |  | 20,000
Diamond Stone | ct | 1,000,000 |  | ¹ 510,000
Fluorspar, Acid Grade | SDT | 0 | ¹ 12,000 | ¹ 12,000
Fluorspar, Metallurgical | SDT | 60,000 |  | 60,000
Germanium | KG | 8,000 |  | 8,000
Graphite | ST | 3,760 |  | 3,760
Iodine | LB | 1,000,000 |  | 1,000,000
Jewel Bearings | PC | ¹ 52,000,000 |  | ¹ 52,000,000
Lead | ST | 60,000 |  | 60,000
Manganese, Battery Grade Natural | SDT | 30,000 |  | 30,000
Manganese, Battery Grade Synthetic | SDT | ¹ 3,011 |  | 0
Manganese, Chemical Grade | SDT | 40,000 |  | 40,000
Manganese, Ferro | ST | 50,000 | 100,000 | 100,000
Manganese, Metal Electrolytic | ST | 2,000 |  | 2,000
Manganese, Metallurgical Grade | SDT | 250,000 |  | 250,000
Mica (All Types) | LB | 4,000,000 |  | 4,000,000
Palladium | Tr Oz | 300,000 |  | 300,000
Platinum | Tr Oz | 125,000 |  | 95,000
Quinidine | Oz | 750,000 |  | 750,000
Quinine | Oz | 1,000,000 |  | ¹ 200,000
Rubber | LT | 0 | ¹ 70,000 | ¹ 70,000
Sebacic Acid | LB | 600,000 |  | 600,000
Silver (for coinage) | Tr Oz | 10,000,000 | 13,000,000 | 5,000,000
Talc | ST | ¹ 1,000 |  | ¹ 1,000
Tantalum Carbide Powder | LB Ta | 4,000 |  | 4,000
Tantalum Metal Ingots | LB Ta | 40,000 |  | 40,000
Tantalum Metal Powder | LB Ta | 50,000 |  | 50,000
Tantalum Minerals | LB Ta | 300,000 | 400,000 | 400,000
Tantalum Oxide | LB Ta | 20,000 |  | 20,000
Thorium Nitrate ² | LB | ¹7,093,464 |  | ¹ 7,093,464
Tin | MT | 12,000 |  | 12,000
Titanium Sponge | ST | 5,000 |  | 5,000
Tungsten, Carbide Powder | LB W | 1,000,000 |  | 1,000,000
Tungsten, Ferro | LB W | 300,000 |  | 300,000
Tungsten, Metal Powder | LB W | 150,000 |  | 150,000
Tungsten Ores & Concentrates | LB W | 4,000,000 |  | 4,000,000
Vegetable Tannin Extract, Chestnut | LT | ¹ 1,100 |  | 0
Vegetable Tannin Extract, Quebrac | LT | 10,000 |  | 10,000
Vegetable Tannin Extract, Wattle | LT | ¹ 6,500 |  | ¹ 6,500
Zinc | ST | 50,000 |  | 50,000
Zirconium (Baddeleyite) | SDT | ¹ 17,383 |  | 0
Notes
¹ FY 2001 entries (current or proposed revision) are an adjustment to available inventory. For FY 2002 entries, actual quantity will be limited to remaining sales authority or inventory.
² The radioactive nature of this material may restrict sales or disposal options.

[FR Doc. 00-25233 Filed 9-29-00; 8:45 am]

BILLING CODE 3510-33-P